ENVIRONMENTAL PROTECTION AGENCY

[FRL-8279-1]

Virginia State Prohibition on Discharges of Vessel Sewage; Final Affirmative Determination

AGENCY: Environmental Protection Agency (EPA).

ACTION: Notice of Final Determination.

SUMMARY: Notice is hereby given that the Regional Administrator, EPA Region III has affirmatively determined, pursuant to section 312(f) of Public Law 92-500, as amended by Public Law 95-217 and Public Law 100-4 (the Clean Water Act), that adequate facilities for the safe and sanitary removal and treatment of sewage from all vessels are reasonably available for the navigable waters of the Lynnhaven River, Virginia Beach, Virginia. Virginia will completely prohibit the discharge of sewage, whether treated or not, from any vessel in the Lynnhaven River.

FOR FURTHER INFORMATION CONTACT: Edward Ambrogio, EPA Region III, Office of State and Watershed Partnerships, 1650 Arch Street, Philadelphia, PA 19103. Telephone: (215) 814-2758. Fax: (215) 814-2301. E-mail: ambrogio.edward@epa.gov.

SUPPLEMENTARY INFORMATION: An application was made by the Virginia Secretary of Natural Resources on behalf of the Virginia Department of Environmental Quality (VDEQ) to EPA Region III to approve a no discharge zone for the Lynnhaven River. Upon publication of this final affirmative determination, VDEQ will completely prohibit the discharge of sewage, whether treated or not, from any vessel in the Lynnhaven River in accordance with section 312(f)(3) of the Clean Water Act and 40 CFR 140.4(a). Notice of the Receipt of Application and Tentative Determination was published in the Federal Register on November 21, 2006 (71 FR 67352, Nov. 21, 2006). Comments on the tentative determination were accepted during the 30-day comment period which closed on December 21, 2006. Comment letters from the Chesapeake Bay Foundation and Lynnhaven River 2007 were received endorsing the proposed affirmative determination. The remainder of this Notice summarizes the location of the no discharge zone, the available pumpout facilities and related information.

Lynnhaven River

The Lynnhaven River is located in the northern part of the city of Virginia Beach, Virginia. It is connected to the Chesapeake Bay through the Lynnhaven Inlet, just east of the Chesapeake Bay Bridge-Tunnel. The Lynnhaven River, including the Eastern Branch, the Western Branch, and Broad Bay/Linkhorn Bay encompasses an area of land and water of approximately 64 square miles with nearly 150 miles of shoreline. The upstream portions of the Lynnhaven River system flow either north to the Chesapeake Bay or south to North Carolina depending on wind and tidal patterns. The Lynnhaven River is oligohaline and subject to the action of tides. The majority of the waters outside the bays are shallow with maintained channel depths of six to 10 feet.

Many people enjoy the Lynnhaven River watershed for a variety of activities, including boating, fishing, crabbing, water skiing, and swimming. The shoreline surrounding the Lynnhaven River includes 4,478 private waterfront homes, public access areas, marinas, boat launch facilities, waterside restaurants, and a state park. Large and small boats, personal watercraft, canoes, kayaks, water skiers, and swimmers enjoy the river for its recreational benefits. There are several waterfront access areas within First Landing State Park for swimming during summer months. The Lynnhaven River was also once a prime oyster harvesting area known throughout the world for the famous Lynnhaven oyster. Oyster habitat restoration projects are presently being implemented in the Lynnhaven River. Lynnhaven River 2007, an advocacy group, in partnership with the city of Virginia Beach, the Chesapeake Bay Foundation, and the U.S. Army Corps of Engineers initiated an oyster-growing program in the summer of 2004 to assist in repopulating the river with this valuable living resource.

Portions of the Lynnhaven River were listed for bacteriological impairments from fecal coliform and enterococci bacteria in Virginia's 1998 section 303(d) list requiring the development of a total maximum daily load (TMDL). Consequently in 2004, EPA Region III and the Virginia State Water Control Board approved a TMDL for the shellfish harvest use impairments on Lynnhaven, Broad, and Linkhorn Bays prepared by the VDEQ. The establishment of a no discharge zone for the Lynnhaven River is one component of the TMDL Implementation Plan.

For the purpose of this Notice, the Lynnhaven River no discharge zone is defined as all contiguous waters south of the Lesner Bridge at Lynnhaven Inlet (Latitude 36°54′27.90″ N and Longitude 76°05′30.90″W) and north of the watershed break point defined as the intersection of West Neck Creek at Dam Neck Road (Latitude 36°47′17.60″ N and Longitude 76°04′14.62″ W).

Information submitted by the Commonwealth of Virginia states that there are six waterfront marinas operating sanitary pumpouts in the Lynnhaven River. Each of these facilities also provides dump stations, restrooms, and informational signage. Details of these facilities’ location, availability and hours of operation are as follows: Long Bay Pointe marina is located on the north side of Long Creek, west of the West Great Neck Road Bridge over the creek (2101 West Great Neck Rd., Virginia Beach). The marina currently operates a Chesapeake Bay Marine pumpout system on the fuel dock accessible to all boaters. There is a sign on the pump station. The marina also has a dump station adjacent to the dock for portable toilets. The marina's sewage disposal hours of operation are 10 am-6 pm, 7 days a week, 12 months per year. Lynnhaven Dry Storage marina is located on the north side of Long Creek between the West Great Neck Road and North Great Neck Road bridges over the creek (2150 West Great Neck Rd., Virginia Beach). The marina currently operates a SaniSailor pumpout system on the fuel dock accessible to all boaters. A sign for the pumpout is posted on the side of the building adjacent to the dock. The marina has a dump station adjacent to the dock for portable toilets. The marina's sewage disposal hours of operation are 8 am-5 pm, 7 days a week, 12 months per year. Lynnhaven Municipal marina is located along the north side of Long Creek between the West Great Neck Road Bridge and the Lesner Bridge (3211 Lynnhaven Drive, Virginia Beach). The marina currently operates a Chesapeake Bay Marine pumpout system at the building face with a hose that reaches the dock accessible to all boaters. There is a sign for the pumpout posted on the dock and on the building face. The marina also has a dump station at the building face adjacent to the dock for portable toilets. The marina's sewage disposal hours of operation are 8 am-4 pm, 7 days a week, 12 months per year. Lynnhaven Seafood marina is located along the north side of Long Creek between the West Great Neck Road Bridge and the Lesner Bridge (3311 Shore Drive, Virginia Beach). The marina currently operates a SaniSailor pumpout system on the fuel dock accessible to all boaters. There is a sign on the pump station. The marina also has a dump station adjacent to the dock for portable toilets. The marina's sewage disposal hours of operation are 6:30 am-11 pm, 7 days a week, 12 months per year. Marina Shores marina is located on the north side of Long Creek just east of the North Great Neck Road Bridge over the creek (2100 Marina Shores Drive, Virginia Beach). The marina currently operates an Edson pumpout system on the fuel dock accessible to all boaters. There is a sign posted on the pump station. The marina also has a dump station adjacent to the dock for portable toilets. The marina's sewage disposal hours of operation are 7 am-8 pm weekends, 8 am-7 pm weekdays, May through September, and, 8 am-5 pm October through June. Cavalier Golf & Yacht Club marina is located at the north end of the Bird Neck Point Neighborhood at Bird Neck Point where Little Neck Creek meets Linkhorn Bay (1052 Cardinal Road, Virginia Beach). The marina currently operates a KECO diaphragm pumpout system on the dock accessible to club members only. They also have a dump station adjacent to the dock for portable toilets. The club currently serves approximately one hundred-fifty (150) vessels at this facility. The marina's sewage disposal hours of operation are 8 am-6 pm, 7 days a week, 12 months per year.

There are no draught limitations for vessels at pumpout facilities and dump stations in the Lynnhaven River. All vessels using the facilities have sufficient water to dock at the marinas. There are two bridges within the Lynnhaven River as well as the Lesner Bridge located at Lynnhaven Inlet. Pumpout facility locations as well as the bridge heights (35 feet) do not restrict accessibility to marinas or pumpout facilities. The facilities are generally concentrated near Lynnhaven Inlet because the watershed becomes dominated by private residences as one travels further away from the inlet. However, transient boats enter the watershed at the inlet and most local boats travel to the inlet facilities for fuel, so the grouping of facility locations does not appear to be an inconvenience.

The Commonwealth of Virginia Sanitary Regulations for Marinas and Boat Moorings specifies requirements for facility design and operation. Routine health department inspections and performance tests are performed to ensure that facilities are available and functioning properly. Broken pumpout stations can be reported to the Virginia Department of Health (VDH) by calling 1-800-ASK-FISH. These regulations also address treatment of collected vessel sewage from pumpouts and dump stations. In compliance with these regulations, all wastes from marinas within the Lynnhaven River are collected in and transported through the City of Virginia Beach's sanitary sewer collection system to the Hampton Roads Sanitation District for ultimate treatment and disposal.

According to Virginia's application there are approximately 11,253 vessels operating in the Lynnhaven River on any given day based on Virginia Beach boater registrations, and estimates of the transient boat population, minus the estimated number of registered boats operating in other Virginia Beach watersheds. The VDH marina inspection slip counts indicate only four out of 535 wet slips at commercial marinas with pumpouts in the Lynnhaven River are designated as transient vessel slips. Based on this information, it is assumed that most transient boats are brought in by trailer. Most of these boats would not be of a size expected to have a holding tank. Transient boat counts have been estimated based on boat information given by the operators of the three public boat ramps in the Lynnhaven River.

The vessel population based on length is 2,883 vessels less than 16 feet in length, 7,272 vessels between 16 feet and 26 feet in length, 899 vessels between 27 feet and 40 feet in length, and 199 vessels greater than 40 feet in length. Based on the number and size of vessels and EPA guidance for state and local officials to estimate the number of vessels with holding tanks, two pumpouts and four dump stations are needed for the Lynnhaven River. As described above, there are currently six pumpout facilities and six dump stations in the Lynnhaven River.

Finding

The EPA hereby makes a final affirmative determination that adequate facilities for the safe and sanitary removal and treatment of sewage from all vessels are reasonably available for the Lynnhaven River, Virginia Beach, Virginia. This final determination will result in a Virginia state prohibition of any sewage discharges, whether treated or not, from vessels into the Lynnhaven River.

Dated: February 12, 2007.
Donald S. Welsh,
Regional Administrator, Region III.

[FR Doc. E7-2877 Filed 2-20-07; 8:45 am]

BILLING CODE 6560-50-P